DEPARTMENT OF ENERGY

Federal Energy Regulatory Commission

18 CFR Parts 2, 5, 36, 131, 153, 156, 157, 287, 300, 366, 375, and 385

[Docket No. RM25-14-000; Order No. 914]

Implementation of the Executive Order Entitled “Zero-Based Budgeting To Unleash American Energy”

AGENCY: Federal Energy Regulatory Commission.

ACTION: Direct final rule.

SUMMARY: The Commission is revising its regulations to insert a conditional sunset date into certain regulations in response to Executive Order (E.O.) 14270, “Zero-Based Regulatory Budgeting to Unleash American Energy.”

DATES: This rule is effective December 5, 2025, unless significant adverse comments are received by November 20, 2025. If any part of the direct final rule is withdrawn as a result of such comments, timely notice of the withdrawal will be published in the Federal Register.

ADDRESSES: Comments, identified by docket number, may be filed in the following ways. Electronic filing through http://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (Including Courier) Delivery: Deliver to: Federal Energy Regulatory Commission, 12225 Wilkins Avenue, Rockville, MD 20852.

FOR FURTHER INFORMATION CONTACT:

Richard Lehfeldt, Office of the General Counsel, Federal Energy Regulatory Commission, 888 First Street NE, Washington, DC 20426, (202) 502-6592, richard.lehfeldt@ferc.gov.

Karin Herzfeld, Office of the General Counsel, Federal Energy Regulatory Commission, 888 First Street NE, Washington, DC 20426, (202) 502-8459, karin.herzfeld@ferc.gov.

SUPPLEMENTARY INFORMATION:

1. In this direct final rule, the Federal Energy Regulatory Commission (Commission) inserts, into the specific regulations identified herein, a sunsetting provision that establishes a conditional sunset date that is one year after the effective date of this rule, and provides an opportunity to comment on the costs and benefits of the regulations to be conditionally sunset prior to the sunset date. Following the sunset date, the Commission will consider sunset regulations to no longer be effective, will not seek to enforce sunset regulations, and will remove the sunset regulations from the Code of Federal Regulations and make necessary conforming changes. Through this action, the Commission responds to Executive Order (E.O.) 14270, “Zero-Based Regulatory Budgeting to Unleash American Energy,” and sunsets outdated and unnecessary regulations to eliminate unwarranted regulatory burdens and better harmonize the Commission's regulations with its underlying statutory authorities.

I. Rulemaking Procedure

2. The former Administrative Conference of the United States (ACUS) endorsed use of the direct final rule process as a means for expediting rulemaking.¹ A direct final rule is a regulatory document that is used for non-controversial regulatory amendments. The direct final rule process allows an agency to issue a rule without having to go through the review process twice (i.e., at the proposed and final rule stages), while at the same time offering the public the opportunity to challenge the agency's view that the rule is non-controversial. As explained below, and in keeping with E.O. 14270, “Zero-Based Regulatory Budgeting to Unleash American Energy,” this rulemaking would add a “sunsetting provision” to 53 outdated, seldomly used, or duplicative regulations. Therefore, because the Commission does not anticipate significant public comments on this rulemaking and considers it to be non-controversial, the Commission is using the “direct final rule procedure” for this rule. The amendments are effective on December 5, 2025. However, if the Commission receives significant adverse comments on any part of this direct final rule by November 20, 2025, then the Commission will publish a document that withdraws any such part of this action and will address the comments received in a subsequent final rule as a response to the companion proposed rule published in the Proposed Rules section of this issue of the Federal Register or take other action as appropriate. Absent significant modifications to the proposed revisions requiring republication, the Commission will not initiate a second comment period on this action. Comments received on this direct final rule will also be considered comments on the companion proposed rule.

¹ See ACUS Recommendation 95-4, Procedures for Non-controversial and Expedited Rulemaking, 60 FR 43110 (Aug. 18, 1995).

3. A significant adverse comment is a comment where the commenter explains why the rule (or part of the rule) would be inappropriate, including challenges to the rule's underlying premise or approach, or would be ineffective or unacceptable without a change. A comment is adverse and significant if:

(1) The comment opposes the rule (or part of the rule) and provides a reason sufficient to require a substantive response in a notice-and-comment process. For example, a substantive response is required when:

(a) The comment causes the Commission to reevaluate (or reconsider) its position or to conduct additional analysis;

(b) The comment raises an issue serious enough to warrant a substantive response to clarify or complete the record; or

(c) The comment raises a relevant issue that was not previously addressed or considered by the Commission.

(2) The comment proposes a change or an addition to the rule, and it is apparent that the rule would be ineffective or unacceptable without incorporation of the change or addition.

(3) The comment causes the Commission to make a change (other than editorial) to the rule.

4. Each of the amended regulations herein operates independently and the sunsetting of each regulation is not dependent on the sunsetting of any other regulation in this direct final rule. Thus, if any section, subsection, sentence, or other provision of this direct final rule is withdrawn by the Commission pursuant to the direct final rule procedure as set forth in this rulemaking, or if any such section, subsection, sentence, or other provision of this rulemaking is found to be invalid or unenforceable, such action or determination shall not affect the validity or enforceability of any other provision of this direct final rule which can otherwise be enforced. The Commission has considered the provisions in this direct final rule, both individually and in their totality, and intends for the remaining sunset provisions as finalized to remain in full force and legal effect.

II. Background

5. E.O. 14270, “Zero-Based Regulatory Budgeting to Unleash American Energy,” ² directs the Commission to issue a rule inserting a conditional sunset date into each of its regulations that are in effect as of the date of the E.O. and were issued in whole or in part pursuant to the following statutes, as amended: the Federal Power Act of 1935 (FPA), the Natural Gas Act of 1938 (NGA), and the Powerplant and Industrial Fuel Use Act of 1978 (PIFUA).³ The E.O. describes the conditional sunset date for covered regulations to be one year after the effective date of the rule. The E.O. directs the Commission to issue the rule “to the extent consistent with applicable law” and provides that the E.O. does not apply to “regulatory permitting regimes authorized by statute.” This rule identifies regulations ripe for sunsetting that do not fit into one or more of the following three categories as covered by the E.O.: (1) regulations that cannot be sunset “consistent with applicable law” because they are necessary to fulfill the Commission's statutory mandates to ensure reliable, safe, secure, and economically efficient energy for consumers at a reasonable cost; (2) regulations that are part of the Commission's “regulatory permitting regimes authorized by statute;” ⁴ or (3) regulations that implement statutes other than the three specific statutes identified in the E.O.

² 90 FR 15643 (Apr. 9, 2025).

³ E.O. 14270 also directs the Commission, to the maximum extent consistent with law, to include a conditional sunset date in new regulations that would be covered by the E.O. Thus, the Commission will include a conditional sunset date in future regulations to which the E.O. would apply, consistent with the approach taken herein.

⁴ For purposes of implementing this E.O., regulations that provide standards and requirements for Commission license and permit holders or applicants constitute the Commission's “regulatory permitting regime.”

6. Consistent with the goals of the E.O., this rule also identifies regulations that fall into one or more of the above three categories, but similarly are not being used or no longer serve their original purpose. As explained in section III, “Discussion,” of this document, the Commission will also add a conditional sunset date to those regulations. A sunset date will allow these unused regulations to roll off the books. At the same time, if evidence emerges in the interim indicating a continued need for these regulations, the agency can extend the sunset date as appropriate. Importantly, the Commission is also continuing its regulatory reform efforts through rulemaking activities consistent with other executive orders, including E.O. 14192 (“Unleashing Prosperity Through Deregulation”) and E.O. 14154 (“Unleashing American Energy”).

7. The sunsetting provision will establish a conditional sunset date that is one year after the effective date of this rule and provide an opportunity to comment on the costs and benefits of the regulations to be conditionally sunset prior to the sunset date. Following the sunset date, the Commission will consider sunset regulations to no longer be effective, will not seek to enforce sunset regulations, and will remove the sunset regulations from the Code of Federal Regulations and make necessary conforming changes. However, following the opportunity provided by this direct final rule (and its companion notice of proposed rulemaking) for the public to comment on the costs and benefits of the regulations referenced below, the Commission may extend the conditional sunsetting date if warranted.

III. Discussion

8. The Commission will include the sunsetting provision in each of the following regulations, for the reasons explained below, consistent with the approach outlined in E.O. 14270 (Section 4, Zero-Based Regulation).

9. The President has directed the Commission to issue a zero-based regulating rule. E.O. 14270 states that “each of the Covered Agencies shall issue a sunset rule,” and further specifies the terms of that rule. The President's direction provides an independent justification for initiating this rulemaking. We note that E.O. 14270 does not, however, direct the Commission to rescind or reissue any particular regulation, nor does it alter the Commission's statutory responsibility and authority to issue, modify, or repeal regulations, consistent with its statutory authorities and in furtherance of the Commission's core mission of ensuring reliable, safe, secure and economically efficient energy for consumers at a reasonable cost.

10. The Commission has further determined, based on its independent policy judgment, that the sunset rule adopted herein is appropriate. Regulatory housekeeping, including streamlining and updating our regulations, helps ensure that they align with our statutory mandates, thus alleviating regulatory burdens and allowing regulated industries to focus more deliberately on the types of high-value projects that will augment and strengthen the Nation's energy supplies. Additional justifications for sunsetting each particular regulation are provided below.

A. 18 CFR 2.15: Specified Reasonable Rate of Return [for Computing Amortization Reserves for Hydroelectric Project Licenses]

11. The regulation in 18 CFR 2.15 specifies a method for calculating return on equity for computing amortization reserves for hydroelectric project licenses that is no longer used and imposes duplicative requirements on entities that may have to maintain two versions of calculations to comply with this outdated regulation.

B. 18 CFR 2.18: Phased Electric Rate Increase Filings

12. The regulation in 18 CFR 2.18 is not needed because the Commission no longer receives phased rate increase filings, and suspension decisions remain matters within the Commission's discretion under 18 CFR 2.4(g).

C. 18 CFR 2.21: Regional Transmission Groups

13. The regulation in 18 CFR 2.21 is not needed because Regional Transmission Organizations and Independent System Operators have replaced Regional Transmission Groups and therefore the regulation is outdated.

D. 18 CFR 2.25: Ratemaking Treatment of the Cost of Emissions Allowances in Coordination Transactions

14. The regulation in 18 CFR 2.25 is not needed given the transition to market-based rates for most generation facilities, and that these costs remain recoverable.

E. 18 CFR 2.26: Policies Concerning Review of Applications Under Section 203

15. The regulation in 18 CFR 2.26 is not needed because it is redundant to 18 CFR part 33 and generally less detailed.

F. 18 CFR 2.27: Availability of North American Energy Standards Board (NAESB) Smart Grid Standards as Non-Mandatory Guidance

16. The regulation in 18 CFR 2.27 is not needed given that these NAESB smart grid standards are not mandatory.

G. 18 CFR 2.78: Utilization and Conservation of Natural Resources—Natural Gas

17. The regulation in 18 CFR 2.78 is outdated because this was used before natural gas pipelines were functionally unbundled.

H. 18 CFR 2.103: Statement of Policy Respecting Take or Pay Provisions in Gas Purchase Contracts

18. The regulation in 18 CFR 2.103 is outdated because this was used before natural gas pipelines were functionally unbundled. This function is now covered by 18 CFR 284.7(e).

I. 18 CFR 2.105: Gas Supply Charges

19. The regulation in 18 CFR 2.105 is outdated because this was used before natural gas pipelines were unbundled.

J. 18 CFR 5.31: Transition Provision

20. The regulation in 18 CFR 5.31 was only relevant between the date of the rulemaking in 2003 and the effective date of the rule in July 2005. Therefore, this regulation is now obsolete.

K. 18 CFR 131.50: Reports of Proposals Received

21. The regulation in 18 CFR 131.50 is not needed because the regulation's requirement that applicants file certain information is routinely waived for applicants.

L. 18 CFR 131.52: Certificate of Concurrence

22. The regulation in 18 CFR 131.52 is not needed because the sample form of certificate is informational rather than a requirement. In lieu of this regulation, the Commission will post the sample form on the Commission's website.

M. 18 CFR 156.5(a)(9): Exhibit H—Total Gas Supply Data

23. The regulation in 18 CFR 156.5(a)(9) is obsolete because, now that natural gas pipelines are functionally unbundled, the Commission no longer considers this information in connection with an application for orders under NGA section 7(a).

N. 18 CFR 157.14(a)(11): Exhibit H—Total Gas Supply Data

24. The regulation in 18 CFR 157.14(a)(11) is obsolete because, now that natural gas pipelines are functionally unbundled, the Commission no longer considers this information.

O. 18 CFR 157.202(b)(9): Right-of-Way Grantor Defines “Right of Way Grantor”

25. This regulation is no longer needed because the term “right of way grantor” is no longer used in the Commission's regulations, other than in 18 CFR 375.307(a)(8)(x) (Delegations to the Director of the Office of Energy Market Regulation), and has a commonly understood meaning.

P. 18 CFR 157.218: Changes in Customer Name. Requires a Certificate Holder To Submit Any Customer Name Changes Each Year in Its Annual Report

26. The regulation in 18 CFR 157.218 is not needed because it is redundant, as this information is already required to be included under 18 CFR 154.111 (Index of customer).

Q. 18 CFR 287.101: Rules Generally Applicable to Powerplant and Industrial Fuel Use

27. The regulation in 18 CFR 287.101 is no longer needed because most of the PIFUA, under which this regulation was issued, was repealed in 1987.

R. 18 CFR 375.104 (Transfer of Proceedings From Other Agencies to the Commission) and 18 CFR 375.105 (Filings)

28. The regulations in 18 CFR 375.104 and 375.105 are no longer needed because they are transition regulations promulgated after the passage of the 1977 Department of Energy Organization Act, which created both the Commission and the U.S. Department of Energy. Since that transition has been completed, these regulations are no longer needed.

S. 18 CFR 385.101(b)(3): Rule 101 Exceptions

29. This regulation states that, if any provision of this part is inconsistent with any provision of 49 CFR chapter X that is not otherwise replaced by this part or Commission rule or order, the provision of this part is inapplicable and the provision of 49 CFR chapter X governs to the extent of the inconsistency. The regulation in 18 CFR 385.101(b)(3) is no longer needed because the Commission has promulgated its own oil pipeline regulations and does not rely on “49 CFR chapter X” anymore.

T. 18 CFR 385.504(b)(19): Duties and Powers of Presiding Officers (Rule 504), Powers—Rule on Motions for Reconsideration of an Initial Decision as Provided in Rule 717

30. The regulation in 18 CFR 385.504(b)(19) is no longer needed because it empowers presiding judges to rule on motions for reconsideration of an initial decision under Rule 717, but Rule 717 has since been removed.

U. 18 CFR 385.602(c)(1)(ii): Submission of Settlement Offers (Rule 602), Contents of Offer

31. The regulation in 18 CFR 385.602(c)(1)(ii) is no longer needed. The regulation requires offers of settlement to include explanatory statements, which is largely duplicative of the settlement agreement itself and thus has limited utility for the settlement review process.

V. 18 CFR 385.902(b) and (c): Interim Remedial Order for Immediate Compliance, Order of Disallowance

32. The regulations in 18 CFR 385.902(b) and (c) are no longer needed because they reference orders that were issued pursuant to two regulations that have since been repealed.

W. 18 CFR 385.904(b): Commencement of Proceeding (Rule 904)

33. The regulation in 18 CFR 385.904(b) is no longer needed because it references interim remedial orders, issued pursuant to 10 CFR 205.199D. That regulation has been removed; orders of this type are therefore no longer issued.

X. 18 CFR 385.915: Off-the-Record Communications (Rule 915)

34. The regulation in 18 CFR 385.915 is no longer needed. This rule governs off-the-record communications, and it states that separate Rule 2201 (Rules governing off-the-record communications) applies to certain types of proceedings. This regulation is duplicative and unnecessary because Rule 2201 already states that it applies to “all contested on-the-record proceedings” at the Commission.

Y. 18 CFR 385.1012: Off-the-Record Communications (Rule 1012)

35. The rule in 18 CFR 385.1012 is not needed. This rule states that Rule 2201 applies to Commission review of adjustment request denials. Because Rule 2201 already states that it applies to “all contested on-the-record proceedings” at the Commission, this additional rule is redundant and unnecessary.

Z. Sunsetting Obsolete Filing Requirements

36. As part of its effort under the E.O., the Commission reviewed its regulations to identify obsolete procedural and filing requirements, such as “form of notice” or required paper filings, all of which are no longer in general use at the Commission. Pursuant to that review, the Commission inserts a conditional sunset date into the following ten regulations:

i. 18 CFR 36.1(b)(1): Notice provisions applicable to applications for transmission services under section 211 of the Federal Power Act.

ii. 18 CFR 153.20(c): Where to file paper copies of export/import applications.

iii. 18 CFR 157.6(a)(2): Requires providing a paper copy of maps and diagrams.

iv. 18 CFR 157.6(b)(7): Requires applicants to provide a form of notice for the Federal Register.

v. 18 CFR 157.205(b)(5): A form of notice of the application suitable for publication in the Federal Register in accordance with the specifications in § 385.203(d).

vi. 18 CFR 300.10(a)(1): Application for confirmation and approval of the Rates of Federal Power Marketing Administrations.

37. The phrases “a form of notice suitable for publication in the Federal Register in accordance with the specifications in § 385.203(d) of this chapter,” and “The form of notice shall be on electronic media as specified by the Secretary.” are no longer needed.

vii. 18 CFR 366.4(b)(1), (3) and (c)(1), (2): FERC-65A, exemption notification, and FERC-65B, waiver notification.

38. The following subsections of 18 CFR 366.4(b) and (c) are no longer needed: (a) 366.4(b)(1)—notice requirements for “persons who file FERC-65A”; (b) 366.4(b)(3)—notice requirements for “persons that file a petition”; (c) 366.4(c)(1)—notice requirements for “persons who file FERC-65B”; and (d) 366.4(c)(2)—notice requirements for “persons that file a petition.”

viii. 18 CFR 366.7(a), (b): Procedures for obtaining exempt wholesale generator and foreign utility company status.

39. The following subsections of 18 CFR 366.7(a) and (b) are no longer needed: (a) 366.7(a)—form of notice required for “Persons that file a notice of self-certification”; and (b) 366.7(b)—form of notice required for “Persons that file petitions.”

ix. 18 CFR 385.203(d): Content of pleadings and tariff or rate filings (Rule 203), Form of notice.

x. 18 CFR 385.206(b)(10): Complaints (Rule 206), Form of notice.

AA. Subpart K—Petitions for Adjustments Under the Natural Gas Policy Act (NGPA)

40. The 17 rules that comprise subpart K (18 CFR 385.1101 through 385.1117) relate in their entirety to the adjustment provisions of the NGPA (i.e., sections 101 through 110 of the NGPA), all of which have been repealed. Accordingly, each of these regulations is obsolete.

i. 18 CFR 385.1101 Applicability (Rule 1101).

ii. 18 CFR 385.1102 Definitions (Rule 1102).

iii. 18 CFR 385.1103 Commencement of proceeding (Rule 1103).

iv. 18 CFR 385.1104 Initial petition (Rule 1104).

v. 18 CFR 385.1105 Intervention (Rule 1105).

vi. 18 CFR 385.1106 Other filings (Rule 1106).

vii. 18 CFR 385.1107 Evaluations (Rule 1107).

viii. 18 CFR 385.1108 Criteria (Rule 1108).

ix. 18 CFR 385.1109 Orders (Rule 1109).

x. 18 CFR 385.1110 Review of initial decision and order for adjustment (Rule 1110).

xi. 18 CFR 385.1111 Conferences (Rule 1111).

xii. 18 CFR 385.1112 Requests for confidential treatment (Rule 1112).

xiii. 18 CFR 385.1113 Interim relief (Rule 1113).

xiv. 18 CFR 385.1114 Motions (Rule 1114).

xv. 18 CFR 385.1115 Procedural rulings (Rule 1115).

xvi. 18 CFR 385.1116 Appeals (Rule 1116).

xvii. 18 CFR 385.1117 Petition for adjustment treated as request for interpretation (Rule 1117).

IV. Information Collection Statement

41. Information collection requirements are subject to review by the Office of Management and Budget (OMB) under section 3507(d) of the Paperwork Reduction Act of 1995. OMB's regulations require approval of certain information collection requirements imposed by agency rules. Upon approval of a collection of information, OMB will assign an OMB control number and expiration date. Respondents subject to the filing requirements will not be penalized for failing to respond to these collections of information unless the collections of information display a valid OMB control number.

42. This direct final rule does not implement any changes to the identified collections. In the event of any resultant regulatory changes that affect information collections, the Commission will implement changes to the collections through regular information collection processes, which include public comment opportunities.

V. Environmental Analysis

43. The Commission is required to prepare an Environmental Assessment or an Environmental Impact Statement for any action that may have a significant adverse effect on the human environment.⁵ The Commission has categorically excluded certain actions from this requirement as not having a significant effect on the human environment. Included in the exclusion are rules that are clarifying, corrective, or procedural or that do not substantially change the effect of the regulations being amended.⁶ The actions herein fall within this categorical exclusion in the Commission's regulations. To the extent that the amendments to any of the regulations herein (or future rescissions of the regulations) are not procedural in nature, the amendments may fall within other categorical exclusions in the Commission's regulations.⁷ Therefore, no Environmental Assessment or Environmental Impact Statement is required in connection with this rule.

⁵ Reguls. Implementing the Nat'l Env't Pol'y Act, Order No. 486, 52 FR 47897 (Dec. 17, 1987), FERC Stats. & Regs. ¶ 30,783 (1987) (cross-referenced at 41 FERC ¶ 61,284).

⁶ 18 CFR 380.4(a)(2)(ii).

⁷ See 18 CFR 380.4(a).

VI. Regulatory Flexibility Act

44. The Regulatory Flexibility Act of 1980 (RFA) ⁸ generally requires a description and analysis of final rules that will have significant economic impact on a substantial number of small entities. The Commission is not required to perform this sort of analysis if the activities within the final rule would not have such an effect. This rulemaking would add a “sunsetting provision” to certain regulations, many of which are outdated seldomly used, or duplicative with other regulations, and therefore the impact is minimal.

⁸ 5 U.S.C. 601-612.

45. Accordingly, pursuant to section 605(b) of the RFA,⁹ the Commission certifies that the regulations herein should not have a significant economic impact on a substantial number of small entities.

⁹ 5 U.S.C. 605(b).

VII. Regulatory Planning and Review

46. E.O. 12866 (Regulatory Planning and Review), as amended by E.O. 14215 (Ensuring Accountability for All Agencies) and affirmed by E.O.13563 (Improving Regulation and Regulatory Review), directs agencies to assess the costs and benefits of available regulatory alternatives and, if regulation is necessary, to select regulatory approaches that maximize net benefits (including potential economic, environmental, public health and safety effects, distributive impacts, and equity). E.O. 13563 emphasizes the importance of quantifying costs and benefits, reducing costs, harmonizing rules, and promoting flexibility. The Office of Information and Regulatory Affairs (OIRA) has determined this regulatory action is a “significant regulatory action,” under section 3(f) of E.O. 12866, as amended, though not economically significant under section 3(f)(1). Accordingly, OIRA has reviewed this regulatory action for compliance with the analytical requirements of E.O. 12866. In general, this regulatory action is intended to simplify and improve stakeholders' interactions with the Commission by eliminating outdated, redundant, or unnecessarily burdensome requirements in the Commission's existing regulations. In addition, this final rule is considered a deregulatory action under E.O. 14192 (Unleashing Prosperity Through Deregulation).

VIII. Document Availability

47. In addition to publishing the full text of this document in the Federal Register, the Commission provides all interested persons an opportunity to view and/or print the contents of this document via the internet through the Commission's Home Page (http://www.ferc.gov).

48. From the Commission's Home Page on the internet, this information is available on eLibrary. The full text of this document is available on eLibrary in PDF and Microsoft Word format for viewing, printing, and/or downloading. To access this document in eLibrary, type the docket number excluding the last three digits of this document in the docket number field.

49. User assistance is available for eLibrary and the Commission's website during normal business hours from FERC Online Support at (202) 502-6652 (toll free at 1-866-208-3676) or email at ferconlinesupport@ferc.gov, or the Public Reference Room at (202) 502-8371, TTY (202) 502-8659. Email the Public Reference Room at public.referenceroom@ferc.gov.

IX. Effective Date and Congressional Notification

50. These regulations are effective December 5, 2025. The Commission has determined, with the concurrence of the Administrator of OIRA, that this rule does not meet the criteria at 5 U.S.C. 804(2).

List of Subjects

18 CFR Part 2

Electric utilities, Natural gas, Pipelines, Reporting and recordkeeping requirements.

18 CFR Part 5

Administrative practice and procedure, Electric power, Reporting and recordkeeping requirements.

18 CFR Part 36

Administrative practice and procedure, Electric power.

18 CFR Part 131

Electric power.

18 CFR Part 153

Exports, Imports, Natural gas, Reporting and recordkeeping requirements.

18 CFR Part 156

Administrative practice and procedure, Natural gas, Reporting and recordkeeping requirements.

18 CFR Part 157

Administrative practice and procedure, Natural gas, Reporting and recordkeeping requirements.

18 CFR Part 287

Electric power plants, Energy conservation.

18 CFR Part 300

Administrative practice and procedure, Electric power rates, Reporting and recordkeeping requirements.

18 CFR Part 366

Electric power, Natural gas, Reporting and recordkeeping requirements, Utilities, Water supply.

18 CFR Part 375

Authority delegations (Government agencies), Seals and insignia, Sunshine Act.

18 CFR Part 385

Administrative practice and procedure, Electric power, Penalties, Pipelines, Reporting and recordkeeping requirements.

By the Commission.
Issued: October 1, 2025.
Debbie-Anne A. Reese,
Secretary.

In consideration of the foregoing, the Commission amends parts 2, 5, 36, 131, 153, 156, 157, 287, 300, 366, 375, and 385, chapter I, title 18, Code of Federal Regulations, as follows:

PART 2—GENERAL POLICY AND INTERPRETATIONS

1. The authority citation for part 2 continues to read as follows:

Authority: 5 U.S.C. 601; 15 U.S.C. 717-717z, 3301-3432; 16 U.S.C. 792-828c, 2601-2645; 42 U.S.C. 4321-4370h, 7101-7352.

2. In § 2.15, add paragraph (f) to read as follows:

§ 2.15 Specified reasonable rate of return.

* * * * *

(f) This section shall cease to have effect on December 5, 2026, unless the Commission determines that the cessation deadline should be extended to a date not more than 5 years in the future after offering the public an opportunity to provide input on the costs and benefits of this section and considering that input. The Commission will publish a document in the Federal Register announcing its determination and revising or removing this section accordingly.

3. In § 2.18, add paragraph (c) to read as follows:

§ 2.18 Phased electric rate increase filings.

* * * * *

(c) This section shall cease to have effect on December 5, 2026, unless the Commission determines that the cessation deadline should be extended to a date not more than 5 years in the future after offering the public an opportunity to provide input on the costs and benefits of this section and considering that input. The Commission will publish a document in the Federal Register announcing its determination and revising or removing this section accordingly.

4. In § 2.21, add paragraph (e) to read as follows:

§ 2.21 Regional Transmission Groups.

* * * * *

(e) Sunsetting provisions. This section shall cease to have effect on December 5, 2026, unless the Commission determines that the cessation deadline should be extended to a date not more than 5 years in the future after offering the public an opportunity to provide input on the costs and benefits of this section and considering that input. The Commission will publish a document in the Federal Register announcing its determination and revising or removing this section accordingly.

5. In § 2.25, add paragraph (g) to read as follows:

§ 2.25 Ratemaking treatment of the cost of emissions allowances in coordination transactions.

* * * * *

(g) Sunsetting provisions. This section shall cease to have effect on December 5, 2026, unless the Commission determines that the cessation deadline should be extended to a date not more than 5 years in the future after offering the public an opportunity to provide input on the costs and benefits of this section and considering that input. The Commission will publish a document in the Federal Register announcing its determination and revising or removing this section accordingly.

6. In § 2.26, add paragraph (g) to read as follows:

§ 2.26 Policies concerning review of applications under section 203.

* * * * *

(g) Sunsetting provisions. This section shall cease to have effect on December 5, 2026, unless the Commission determines that the cessation deadline should be extended to a date not more than 5 years in the future after offering the public an opportunity to provide input on the costs and benefits of this section and considering that input. The Commission will publish a document in the Federal Register announcing its determination and revising or removing this section accordingly.

7. In § 2.27, add paragraph (g) to read as follows:

§ 2.27 Availability of North American Energy Standards Board (NAESB) Smart Grid Standards as non-mandatory guidance.

* * * * *

(g) This section shall cease to have effect on December 5, 2026, unless the Commission determines that the cessation deadline should be extended to a date not more than 5 years in the future after offering the public an opportunity to provide input on the costs and benefits of this section and considering that input. The Commission will publish a document in the Federal Register announcing its determination and revising or removing this section accordingly.

8. In § 2.78:

a. Add paragraph (d); and

b. Remove the parenthetical authority citation at the end of the section.

The addition reads as follows:

§ 2.78 Utilization and conservation of natural resources—natural gas.

* * * * *

(d) This section shall cease to have effect on December 5, 2026, unless the Commission determines that the cessation deadline should be extended to a date not more than 5 years in the future after offering the public an opportunity to provide input on the costs and benefits of this section and considering that input. The Commission will publish a document in the Federal Register announcing its determination and revising or removing this section accordingly.

9. In § 2.103:

a. Add paragraph (c); and

b. Remove the parenthetical authority citation at the end of the section.

The addition reads as follows:

§ 2.103 Statement of policy respecting take or pay provisions in gas purchase contracts.

* * * * *

(c) This section shall cease to have effect on December 5, 2026, unless the Commission determines that the cessation deadline should be extended to a date not more than 5 years in the future after offering the public an opportunity to provide input on the costs and benefits of this section and considering that input. The Commission will publish a document in the Federal Register announcing its determination and revising or removing this section accordingly.

10. In § 2.105, add paragraph (e) to read as follows:

§ 2.105 Gas supply charges.

* * * * *

(e) This section shall cease to have effect on December 5, 2026, unless the Commission determines that the cessation deadline should be extended to a date not more than 5 years in the future after offering the public an opportunity to provide input on the costs and benefits of this section and considering that input. The Commission will publish a document in the Federal Register announcing its determination and revising or removing this section accordingly.

PART 5—INTEGRATED LICENSE APPLICATION PROCESS

11. The authority citation for part 5 continues to read as follows:

Authority: 16 U.S.C. 792-828c, 2601-2645; 42 U.S.C. 7101-7352.

12. In § 5.31, add two sentences at the end of the paragraph to read as follows:

§ 5.31 Transition provision.

* * * This section shall cease to have effect on December 5, 2026, unless the Commission determines that the cessation deadline should be extended to a date not more than 5 years in the future after offering the public an opportunity to provide input on the costs and benefits of this section and considering that input. The Commission will publish a document in the Federal Register announcing its determination and revising or removing this section accordingly.

PART 36—RULES CONCERNING APPLICATIONS FOR TRANSMISSION SERVICES UNDER SECTION 211 OF THE FEDERAL POWER ACT

13. The authority citation for part 36 continues to read as follows:

Authority: 5 U.S.C. 551-557; 16 U.S.C. 791a-825r; 31 U.S.C. 9701; 42 U.S.C. 7107-7352.

14. In § 36.1, add two sentences at the end of paragraph (b)(1) to read as follows:

§ 36.1 Notice provisions applicable to applications for transmission services under section 211 of the Federal Power Act.

* * * * *

(b) * * *

(1) * * * This paragraph (b)(1) shall cease to have effect on December 5, 2026, unless the Commission determines that the cessation deadline should be extended to a date not more than 5 years in the future after offering the public an opportunity to provide input on the costs and benefits of this paragraph (b)(1) and considering that input. The Commission will publish a document in the Federal Register announcing its determination and revising or removing this paragraph (b)(1) accordingly.

* * * * *

PART 131—FORMS

15. The authority citation for part 131 continues to read as follows:

Authority: 16 U.S.C. 792-828c, 2601-2645; 31 U.S.C. 9701; 42 U.S.C. 7101-7352.

16. In § 131.50, add paragraph (m) to read as follows:

§ 131.50 Reports of proposals received.

* * * * *

(m) This section shall cease to have effect on December 5, 2026, unless the Commission determines that the cessation deadline should be extended to a date not more than 5 years in the future after offering the public an opportunity to provide input on the costs and benefits of this section and considering that input. The Commission will publish a document in the Federal Register announcing its determination and revising or removing this section accordingly.

17. In § 131.52, add a note at the end of the section to read as follows:

§ 131.52 Certificate of concurrence.

* * * * *

Note 1 to § 131.52: This section shall cease to have effect on December 5, 2026, unless the Commission determines that the cessation deadline should be extended to a date not more than 5 years in the future after offering the public an opportunity to provide input on the costs and benefits of this section and considering that input. The Commission will publish a document in the Federal Register announcing its determination and revising or removing this section accordingly.

PART 153—APPLICATIONS FOR AUTHORIZATION TO CONSTRUCT, OPERATE, OR MODIFY FACILITIES USED FOR THE EXPORT OR IMPORT OF NATURAL GAS

18. The authority citation for part 153 continues to read as follows:

Authority: 15 U.S.C. 717b, 717o; E.O. 10485, 3 CFR, 1949-1953 Comp., p. 970, as amended by E.O. 12038, 3 CFR, 1978 Comp., p. 136; DOE Delegation Order No. S1-DEL-FERC-2006 (May 16, 2006).

19. In § 153.20, add two sentences at the end of paragraph (c) to read as follows:

§ 153.20 General rule.

* * * * *

(c) * * * This paragraph (c) shall cease to have effect on December 5, 2026, unless the Commission determines that the cessation deadline should be extended to a date not more than 5 years in the future after offering the public an opportunity to provide input on the costs and benefits of this paragraph (c) and considering that input. The Commission will publish a document in the Federal Register announcing its determination and revising or removing this paragraph (c) accordingly.

PART 156—APPLICATIONS FOR ORDERS UNDER SECTION 7(a) OF THE NATURAL GAS ACT

20. The authority citation for part 156 continues to read as follows:

Authority: 52 Stat. 824, 829, 830; 56 Stat. 83, 84; 15 U.S.C. 717f, 717f(a), 717n, 717o.

21. In § 156.5, add paragraph (a)(9)(vii) to read as follows:

§ 156.5 Exhibits.

(a) * * *

(9) * * *

(vii) This paragraph (a)(9) shall cease to have effect on December 5, 2026, unless the Commission determines that the cessation deadline should be extended to a date not more than 5 years in the future after offering the public an opportunity to provide input on the costs and benefits of this paragraph (a)(9) and considering that input. The Commission will publish a document in the Federal Register announcing its determination and revising or removing this paragraph (a)(9) accordingly.

* * * * *

PART 157—APPLICATIONS FOR CERTIFICATES OF PUBLIC CONVENIENCE AND NECESSITY AND FOR ORDERS PERMITTING AND APPROVING ABANDONMENT UNDER SECTION 7 OF THE NATURAL GAS ACT

22. The authority citation for part 157 continues to read as follows:

Authority: 15 U.S.C. 717-717w, 3301-3432; 42 U.S.C. 7101-7352.

23. In § 157.6:

a. Add two sentences at the end of paragraph (a)(2); and

b. Add two sentences at the end of paragraph (b)(7).

The additions read as follows:

§ 157.6 Applications; general requirements.

(a) * * *

(2) * * * This paragraph (a)(2) shall cease to have effect on December 5, 2026, unless the Commission determines that the cessation deadline should be extended to a date not more than 5 years in the future after offering the public an opportunity to provide input on the costs and benefits of this paragraph (a)(2) and considering that input. The Commission will publish a document in the Federal Register announcing its determination and revising or removing this paragraph (a)(2) accordingly.

* * * * *

(b) * * *

(7) * * * This paragraph (b)(7) shall cease to have effect on December 5, 2026, unless the Commission determines that the cessation deadline should be extended to a date not more than 5 years in the future after offering the public an opportunity to provide input on the costs and benefits of this paragraph (b)(7) and considering that input. The Commission will publish a document in the Federal Register announcing its determination and revising or removing this paragraph (b)(7) accordingly.

* * * * *

24. In § 157.14:

a. Add paragraph (a)(11)(iii); and

b. Remove the parenthetical authority citation at the end of the section.

The addition reads as follows:

§ 157.14 Exhibits.

(a) * * *

(11) * * *

(iii) This paragraph (a)(11) shall cease to have effect on December 5, 2026, unless the Commission determines that the cessation deadline should be extended to a date not more than 5 years in the future after offering the public an opportunity to provide input on the costs and benefits of this paragraph (a)(11) and considering that input. The Commission will publish a document in the Federal Register announcing its determination and revising or removing this paragraph (a)(11) accordingly.

* * * * *

25. In § 157.202:

a. Remove the semicolon at the end of paragraphs (b)(2)(ii)(C), (F), and (G) and add a period in its place;

b. Add paragraph (b)(2)(ii)(H); and

c. Revise paragraph (b)(9).

The addition and revision read as follows:

§ 157.202 Definitions.

* * * * *

(b) * * *

(2) * * *

(ii) * * *

(H) This paragraph (b)(2)(ii) shall cease to have effect on December 5, 2026, unless the Commission determines that the cessation deadline should be extended to a date not more than 5 years in the future after offering the public an opportunity to provide input on the costs and benefits of this paragraph (b)(2)(ii) and considering that input. The Commission will publish a document in the Federal Register announcing its determination and revising or removing this paragraph (b)(2)(ii) accordingly.

* * * * *

(9) Right-of-way grantor means:

(i) A person who grants a right-of-way easement to the certificate holder; or

(ii) Any successor to an interest which is subject to the easement.

(iii) This paragraph (b)(9) shall cease to have effect on December 5, 2026, unless the Commission determines that the cessation deadline should be extended to a date not more than 5 years in the future after offering the public an opportunity to provide input on the costs and benefits of this paragraph (b)(9) and considering that input. The Commission will publish a document in the Federal Register announcing its determination and revising or removing this paragraph (b)(9) accordingly.

* * * * *

26. In § 157.205, revise paragraph (b)(5) to read as follows:

§ 157.205 Notice procedure.

* * * * *

(b) * * *

(5) A form of notice of the application suitable for publication in the Federal Register in accordance with the specifications in § 385.203(d) of this chapter. This paragraph (b)(5) shall cease to have effect on December 5, 2026, unless the Commission determines that the cessation deadline should be extended to a date not more than 5 years in the future after offering the public an opportunity to provide input on the costs and benefits of this paragraph (b)(5) and considering that input. The Commission will publish a document in the Federal Register announcing its determination and revising or removing this paragraph (b)(5) accordingly; and

* * * * *

27. In § 157.218, add paragraph (c) to read as follows:

§ 157.218 Changes in Customer Name.

* * * * *

(c) Sunsetting provisions. This section shall cease to have effect on December 5, 2026, unless the Commission determines that the cessation deadline should be extended to a date not more than 5 years in the future after offering the public an opportunity to provide input on the costs and benefits of this section and considering that input. The Commission will publish a document in the Federal Register announcing its determination and revising or removing this section accordingly.

PART 287—RULES GENERALLY APPLICABLE TO POWERPLANT AND INDUSTRIAL FUEL USE

28. The authority citation for part 287 continues to read as follows:

Authority: Department of Energy Organization Act, 42 U.S.C. 7107 et seq.; Powerplant and Industrial Fuel Use Act of 1978, Pub. L. 95-620.

29. In § 287.101, add paragraph (e) to read as follows:

§ 287.101 Determination of powerplant design capacity.

* * * * *

(e) Sunsetting provisions. This section shall cease to have effect on December 5, 2026, unless the Commission determines that the cessation deadline should be extended to a date not more than 5 years in the future after offering the public an opportunity to provide input on the costs and benefits of this section and considering that input. The Commission will publish a document in the Federal Register announcing its determination and revising or removing this section accordingly.

PART 300—CONFIRMATION AND APPROVAL OF THE RATES OF FEDERAL POWER MARKETING ADMINISTRATIONS

30. The authority citation for part 300 continues to read as follows:

Authority: 16 U.S.C. 825s, 832-8321, 838-838k, 839-839h; 42 U.S.C. 7101-7352; 43 U.S.C. 485-485k.

31. In § 300.10, revise paragraph (a)(1) to read as follows:

§ 300.10 Application for confirmation and approval.

(a) * * *

(1) Contents of filing. Any application under this subpart for confirmation and approval of rate schedules must include, as described in this section:

(i)(A) A letter of request for rate approval;

(B) A form of notice suitable for publication in the Federal Register in accordance with the specifications in § 385.203(d) of this chapter;

(C) The rate schedule;

(D) A statement of revenue and related costs;

(E) The order, if any, placing the rates into effect on an interim basis;

(F) The Administrator's Record of Decision or explanation of the rate development process;

(G) Supporting documents;

(H) A certification; and

(I) Technical supporting information and analysis.

(ii) The form of notice shall be on electronic media as specified by the Secretary.

(iii) Paragraphs (a)(1)(i)(B) and (a)(1)(ii) of this section shall cease to have effect on December 5, 2026, unless the Commission determines that the cessation deadline should be extended to a date not more than 5 years in the future after offering the public an opportunity to provide input on the costs and benefits of paragraphs (a)(1)(i)(B) and (a)(1)(ii) and considering that input. The Commission will publish a document in the Federal Register announcing its determination and revising or removing paragraphs (a)(1)(i)(B) and (a)(1)(ii) accordingly.

* * * * *

PART 366—BOOKS AND RECORDS

32. The authority citation for part 366 continues to read as follows:

Authority: 15 U.S.C. 717 et seq., 16 U.S.C. 791a et seq., and 42 U.S.C. 16451-16463.

33. In § 366.4, revise paragraphs (b)(1) and (3) and (c) to read as follows:

§ 366.4 FERC-65, notification of holding company status, FERC-65A, exemption notification, and FERC-65B, waiver notification.

* * * * *

(b) * * *

(1)(i) Persons who, pursuant to § 366.3(b)(2), seek exemption from the requirements of § 366.2 and the accounting, record-retention, and reporting requirements of §§ 366.21, 366.22, and 366.23, may seek such exemption by filing FERC-65A (exemption notification); FERC-65A must be subscribed, consistent with § 385.2005(a) of this chapter, but need not be verified. These filings will be noticed in the Federal Register.

(ii) Persons who file FERC-65A must include a form of notice suitable for publication in the Federal Register in accordance with the specifications in § 385.203(d) of this chapter.

(iii) Persons who file FERC-65A in good faith shall be deemed to have a temporary exemption upon filing.

(iv) If the Commission has taken no action within 60 days after the date of filing FERC-65A, the exemption shall be deemed to have been granted. The Commission may toll the 60-day period to request additional information or for further consideration of the request; in such case, the temporary exemption will remain in effect until such time as the Commission has determined whether to grant or deny the exemption. Authority to toll the 60-day period is delegated to the Secretary or the Secretary's designee.

(v) Paragraph (b)(1)(ii) of this section shall cease to have effect on December 5, 2026, unless the Commission determines that the cessation deadline should be extended to a date not more than 5 years in the future after offering the public an opportunity to provide input on the costs and benefits of paragraph (b)(1)(ii) and considering that input. The Commission will publish a document in the Federal Register announcing its determination and revising or removing paragraph (b)(1)(ii) accordingly.

* * * * *

(3)(i) Persons that do not qualify for exemption pursuant to § 366.3(b)(2) may seek an individual exemption from this subchapter. They may not do so by means of filing FERC-65A and instead must file a petition for declaratory order as required under § 366.3(d). Such petitions will be noticed in the Federal Register.

(ii) Persons that file a petition must include a form of notice suitable for publication in the Federal Register in accordance with the specifications in § 385.203(d) of this chapter.

(iii) No temporary exemption will attach upon filing and the requested exemption will be effective only if approved by the Commission.

(iv) Persons may also seek exemptions for classes of transactions by filing a petition for declaratory order pursuant to § 385.207(a) of this chapter justifying the request for exemption. Any person seeking such an exemption shall bear the burden of demonstrating that such exemption is warranted.

(v) Paragraph (b)(3)(ii) of this section shall cease to have effect on December 5, 2026, unless the Commission determines that the cessation deadline should be extended to a date not more than 5 years in the future after offering the public an opportunity to provide input on the costs and benefits of paragraph (b)(3)(ii) and considering that input. The Commission will publish a document in the Federal Register announcing its determination and revising or removing paragraph (b)(3)(ii) accordingly.

(c) FERC-65B (waiver notification) and petitions for waiver. (1)(i) Persons who, pursuant to § 366.3(c), seek waiver of the accounting, record-retention, and reporting requirements of §§ 366.21, 366.22, and 366.23, may seek such waiver by filing FERC-65B (waiver notification); FERC-65B must be subscribed, consistent with § 385.2005(a) of this chapter, but need not be verified. FERC-65B will be noticed in the Federal Register.

(ii) Persons who file FERC-65B must include a form of notice suitable for publication in the Federal Register in accordance with the specifications in § 385.203(d) of this chapter.

(iii) Persons who file FERC-65B in good faith shall be deemed to have a temporary exemption upon filing.

(iv) If the Commission has taken no action within 60 days after the date of filing of FERC-65B, the waiver shall be deemed to have been granted. The Commission may toll the 60-day period to request additional information or for further consideration of the request; in such case, the temporary waiver will remain in effect until such time as the Commission has determined whether to grant or deny the waiver. Authority to toll the 60-day period is delegated to the Secretary or the Secretary's designee.

(v) Paragraph (c)(1)(ii) of this section shall cease to have effect on December 5, 2026, unless the Commission determines that the cessation deadline should be extended to a date not more than 5 years in the future after offering the public an opportunity to provide input on the costs and benefits of paragraph (c)(1)(ii) and considering that input. The Commission will publish a document in the Federal Register announcing its determination and revising or removing paragraph (c)(1)(ii) accordingly.

(2)(i) Persons that do not qualify for waiver pursuant to § 366.3(c) may seek an individual waiver from this subchapter. They may not do so by means of filing FERC-65B and instead must file a petition for declaratory order as required under § 366.3(d). Such petitions will be noticed in the Federal Register.

(ii) Persons that file a petition must include a form of notice suitable for publication in the Federal Register in accordance with the specifications in § 385.203(d) of this chapter.

(iii) No temporary waiver will attach upon filing and the requested exemption will be effective only if approved by the Commission.

(iv) Persons may also seek waivers for classes of transactions by filing a petition for declaratory order pursuant to § 385.207(a) of this chapter justifying the request for waiver. Any person seeking such waiver shall bear the burden of demonstrating that such waiver is warranted.

(v) Paragraph (c)(2)(ii) of this section shall cease to have effect on December 5, 2026, unless the Commission determines that the cessation deadline should be extended to a date not more than 5 years in the future after offering the public an opportunity to provide input on the costs and benefits of paragraph (c)(2)(ii) and considering that input. The Commission will publish a document in the Federal Register announcing its determination and revising or removing paragraph (c)(2)(ii) accordingly.

* * * * *

34. In § 366.7, revise paragraphs (a) and (b) to read as follows:

§ 366.7 Procedures for obtaining exempt wholesale generator and foreign utility company status.

(a) Self-certification notice procedure. (1) An exempt wholesale generator or a foreign utility company, or its representative, may file with the Commission a notice of self-certification demonstrating that it satisfies the definition of exempt wholesale generator or foreign utility company (including stating the location of its generation); such notices of self-certification must be subscribed, consistent with § 385.2005(a) of this chapter, but need not be verified. In the case of exempt wholesale generators, the person filing a notice of self-certification under this section must also file a copy of the notice of self-certification with the state regulatory authority of the state in which the facility is located, and that person must also represent to this Commission in its submittal with this Commission that it has filed a copy of the notice of self-certification with the state regulatory authority of the state in which the facility is located. Notice of the filing of a notice of self-certification will be published in the Federal Register.

(2) Persons that file a notice of self-certification must include a form of notice suitable for publication in the Federal Register in accordance with the specifications in § 385.203(d) of this chapter.

(3) A person filing a notice of self-certification in good faith will be deemed to have temporary exempt wholesale generator or foreign utility company status.

(4) If the Commission takes no action within 60 days from the date of filing of the notice of self-certification, the self-certification shall be deemed to have been granted; however, consistent with section 32(c) of the Public Utility Holding Company Act of 1935 (15 U.S.C. 79z-5a (c)) any self-certification of an exempt wholesale generator may not become effective until the relevant state commissions have made the determinations provided for therein if such determinations are necessary (if such determinations are not necessary, the notice of self-certification should state so). The Commission may toll the 60-day period to request additional information, or for further consideration of the request; in such cases, the person's exempt wholesale generator or foreign utility company status will remain temporary until such time as the Commission has determined whether to grant or deny exempt wholesale generator or foreign utility company status; however, consistent with section 32(c) of the Public Utility Holding Company Act of 1935 (15 U.S.C. 79z-5a (c)), any self-certification of an exempt wholesale generator may not become effective until the relevant state commissions have made the determinations provided for therein if such determinations are necessary (if such determinations are not necessary, the notice of self-certification should state so). Authority to toll the 60-day period is delegated to the Secretary or the Secretary's designee, and authority to act on uncontested notices of self-certification is delegated to the General Counsel or the General Counsel's designee.

(5) Paragraph (a)(2) of this section shall cease to have effect on December 5, 2026, unless the Commission determines that the cessation deadline should be extended to a date not more than 5 years in the future after offering the public an opportunity to provide input on the costs and benefits of paragraph (a)(2) and considering that input. The Commission will publish a document in the Federal Register announcing its determination and revising or removing paragraph (a)(2) accordingly.

(b) Optional procedure for Commission determination of exempt wholesale generator status or foreign utility company status. (1) A person may file for a Commission determination of exempt wholesale generator status or foreign utility company status under § 366.1 by filing a petition for declaratory order pursuant to § 385.207(a) of this chapter, justifying the request for such status; however, consistent with section 32(c) of the Public Utility Holding Company Act of 1935 (15 U.S.C. 79z-5a (c)), a Commission determination of exempt wholesale generator status may not become effective until the relevant state commissions have made the determinations provided for therein if such determinations are necessary. (If such determinations are not necessary, the petition for declaratory order should state so.)

(2) Persons that file petitions must include a form of notice suitable for publication in the Federal Register in accordance with the specifications in § 385.203(d) of this chapter.

(3) Paragraph (b)(2) of this section shall cease to have effect on December 5, 2026, unless the Commission determines that the cessation deadline should be extended to a date not more than 5 years in the future after offering the public an opportunity to provide input on the costs and benefits of paragraph (b)(2) and considering that input. The Commission will publish a document in the Federal Register announcing its determination and revising or removing paragraph (b)(2) accordingly.

* * * * *

PART 375—THE COMMISSION

35. The authority citation for part 375 continues to read as follows:

Authority: 5 U.S.C. 551-557; 15 U.S.C. 717-717w, 3301-3432; 16 U.S.C. 791-825r, 2601-2645; 42 U.S.C. 7101-7352.

36. In § 375.104:

a. Remove the last sentence of paragraph (a);

b. Add paragraph (c); and

b. Remove the appendix to the section and the parenthetical authority following the appendix.

The addition reads as follows:

§ 375.104 Transfer of proceedings from other agencies to the Commission.

* * * * *

(c) Sunsetting provisions. This section shall cease to have effect on December 5, 2026, unless the Commission determines that the cessation deadline should be extended to a date not more than 5 years in the future after offering the public an opportunity to provide input on the costs and benefits of this section and considering that input. The Commission will publish a document in the Federal Register announcing its determination and revising or removing this section accordingly.

37. In § 375.105, add paragraph (d) to read as follows:

§ 375.105 Filings.

* * * * *

(d) Sunsetting provisions. This section shall cease to have effect on December 5, 2026, unless the Commission determines that the cessation deadline should be extended to a date not more than 5 years in the future after offering the public an opportunity to provide input on the costs and benefits of this section and considering that input. The Commission will publish a document in the Federal Register announcing its determination and revising or removing this section accordingly.

PART 385—RULES OF PRACTICE AND PROCEDURE

38. The authority citation for part 385 continues to read as follows:

Authority: 5 U.S.C. 551-557; 15 U.S.C. 717-717w, 3301-3432; 16 U.S.C. 791a-825v, 2601-2645; 28 U.S.C. 2461; 31 U.S.C 3701, 9701; 42 U.S.C. 7101-7352, 16441, 16451-16463; 49 U.S.C. 60502; 49 App. U.S.C. 1-85 (1988); 28 U.S.C. 2461 note (1990); 28 U.S.C. 2461 note (2015).

39. In § 385.101, add two sentences at the end of paragraph (b)(3) to read as follows:

§ 385.101 Applicability (Rule 101).

* * * * *

(b) * * *

(3) * * * This paragraph (b)(3) shall cease to have effect on December 5, 2026, unless the Commission determines that the cessation deadline should be extended to a date not more than 5 years in the future after offering the public an opportunity to provide input on the costs and benefits of this paragraph (b)(3) and considering that input. The Commission will publish a document in the Federal Register announcing its determination and revising or removing this paragraph (b)(3) accordingly.

* * * * *

40. In § 385.203, add two sentences at the end of paragraph (d) to read as follows:

§ 385.203 Content of pleadings and tariff or rate filings (Rule 203).

* * * * *

(d) * * * This paragraph (d) shall cease to have effect on December 5, 2026, unless the Commission determines that the cessation deadline should be extended to a date not more than 5 years in the future after offering the public an opportunity to provide input on the costs and benefits of this paragraph (d) and considering that input. The Commission will publish a document in the Federal Register announcing its determination and revising or removing this paragraph (d) accordingly.

41. In § 385.206, add two sentences at the end of paragraph (b)(10) to read as follows:

§ 385.206 Complaints (Rule 206).

* * * * *

(b) * * *

(10) * * * This paragraph (b)(10) shall cease to have effect on December 5, 2026, unless the Commission determines that the cessation deadline should be extended to a date not more than 5 years in the future after offering the public an opportunity to provide input on the costs and benefits of this paragraph (b)(10) and considering that input. The Commission will publish a document in the Federal Register announcing its determination and revising or removing this paragraph (b)(10) accordingly.

* * * * *

§ 385.504 [Amended]

42. In § 385.504, remove and reserve paragraph (b)(19).

43. In § 385.602, revise paragraph (c)(1)(ii) to read as follows:

§ 385.602 Submission of settlement offers (Rule 602).

* * * * *

(c) * * *

(1) * * *

(ii) A separate explanatory statement. This paragraph (c)(1)(ii) shall cease to have effect on December 5, 2026, unless the Commission determines that the cessation deadline should be extended to a date not more than 5 years in the future after offering the public an opportunity to provide input on the costs and benefits of this paragraph (c)(1)(ii) and considering that input. The Commission will publish a document in the Federal Register announcing its determination and revising or removing this paragraph (c)(1)(ii) accordingly; and

* * * * *

44. Revise § 385.902 to read as follows:

§ 385.902 Definitions (Rule 902).

For purposes of this subpart:

(a) Contested order means the remedial order being contested in proceeding pursuant to this subpart;

(b) Participant means, as appropriate, the Secretary, the petitioner, and intervenors;

(c) Petitioner means a person who has received a remedial order who notifies the Secretary that he intends to contest the order;

(d) Remedial order means a remedial order issued pursuant to 10 CFR 205.199B (remedial orders); and

(e) Secretary means the Secretary of Energy or his delegate.

§ 385.904 [Amended]

45. In § 385.904:

a. Remove the text “Except as provided in paragraph (b) of this section, the” in paragraph (a) and add the text “The” in its place; and

b. Remove and reserve paragraph (b).

46. In § 385.915:

a. Remove the text “, an interim remedial order for immediate compliance under 10 CFR 205.199D, or a proposed order of disallowance under 10 CFR 205.199E”; and

b. Add two sentences at the end of the paragraph.

The addition reads as follows:

§ 385.915 Off-the-record communications (Rule 915).

* * * This section shall cease to have effect on December 5, 2026, unless the Commission determines that the cessation deadline should be extended to a date not more than 5 years in the future after offering the public an opportunity to provide input on the costs and benefits of this section and considering that input. The Commission will publish a document in the Federal Register announcing its determination and revising or removing this section accordingly.

47. In § 385.1012, add two sentences at the end of the paragraph to read as follows:

§ 385.1012 Off-the-record communications (Rule 1012).

* * * This section shall cease to have effect on December 5, 2026, unless the Commission determines that the cessation deadline should be extended to a date not more than 5 years in the future after offering the public an opportunity to provide input on the costs and benefits of this section and considering that input. The Commission will publish a document in the Federal Register announcing its determination and revising or removing this section accordingly.

48. In § 385.1101, add paragraph (d) to read as follows:

§ 385.1101 Applicability (Rule 1101).

* * * * *

(d) Sunsetting provisions. This section shall cease to have effect on December 5, 2026, unless the Commission determines that the cessation deadline should be extended to a date not more than 5 years in the future after offering the public an opportunity to provide input on the costs and benefits of this section and considering that input. The Commission will publish a document in the Federal Register announcing its determination and revising or removing this section accordingly.

49. In § 385.1102, add paragraph (g) to read as follows:

§ 385.1102 Definitions (Rule 1102).

* * * * *

(g) This section shall cease to have effect on December 5, 2026, unless the Commission determines that the cessation deadline should be extended to a date not more than 5 years in the future after offering the public an opportunity to provide input on the costs and benefits of this section and considering that input. The Commission will publish a document in the Federal Register announcing its determination and revising or removing this section accordingly.

50. In § 385.1103, add two sentences at the end of the paragraph to read as follows:

§ 385.1103 Commencement of proceeding (Rule 1103).

* * * This section shall cease to have effect on December 5, 2026, unless the Commission determines that the cessation deadline should be extended to a date not more than 5 years in the future after offering the public an opportunity to provide input on the costs and benefits of this section and considering that input. The Commission will publish a document in the Federal Register announcing its determination and revising or removing this section accordingly.

51. In § 385.1104, add paragraph (c) to read as follows:

§ 385.1104 Initial petition (Rule 1104).

* * * * *

(c) Sunsetting provisions. This section shall cease to have effect on December 5, 2026, unless the Commission determines that the cessation deadline should be extended to a date not more than 5 years in the future after offering the public an opportunity to provide input on the costs and benefits of this section and considering that input. The Commission will publish a document in the Federal Register announcing its determination and revising or removing this section accordingly.

52. In § 385.1105, add paragraph (c) to read as follows:

§ 385.1105 Intervention (Rule 1105).

* * * * *

(c) This section shall cease to have effect on December 5, 2026, unless the Commission determines that the cessation deadline should be extended to a date not more than 5 years in the future after offering the public an opportunity to provide input on the costs and benefits of this section and considering that input. The Commission will publish a document in the Federal Register announcing its determination and revising or removing this section accordingly.

53. In § 385.1106, add paragraph (c) to read as follows:

§ 385.1106 Other filings (Rule 1106).

* * * * *

(c) Sunsetting provisions. This section shall cease to have effect on December 5, 2026, unless the Commission determines that the cessation deadline should be extended to a date not more than 5 years in the future after offering the public an opportunity to provide input on the costs and benefits of this section and considering that input. The Commission will publish a document in the Federal Register announcing its determination and revising or removing this section accordingly.

54. In § 385.1107, add paragraph (c) to read as follows:

§ 385.1107 Evaluations (Rule 1107).

* * * * *

(c) This section shall cease to have effect on December 5, 2026, unless the Commission determines that the cessation deadline should be extended to a date not more than 5 years in the future after offering the public an opportunity to provide input on the costs and benefits of this section and considering that input. The Commission will publish a document in the Federal Register announcing its determination and revising or removing this section accordingly.

55. In § 385.1108, add paragraph (c) to read as follows:

§ 385.1108 Criteria (Rule 1108).

* * * * *

(c) This section shall cease to have effect on December 5, 2026, unless the Commission determines that the cessation deadline should be extended to a date not more than 5 years in the future after offering the public an opportunity to provide input on the costs and benefits of this section and considering that input. The Commission will publish a document in the Federal Register announcing its determination and revising or removing this section accordingly.

56. In § 385.1109, add paragraph (e) to read as follows:

§ 385.1109 Orders (Rule 1109).

* * * * *

(e) This section shall cease to have effect on December 5, 2026, unless the Commission determines that the cessation deadline should be extended to a date not more than 5 years in the future after offering the public an opportunity to provide input on the costs and benefits of this section and considering that input. The Commission will publish a document in the Federal Register announcing its determination and revising or removing this section accordingly.

57. In § 385.1110, add paragraph (d) to read as follows:

§ 385.1110 Review of initial decision and order for adjustment (Rule 1110).

* * * * *

(d) Sunsetting provisions. This section shall cease to have effect on December 5, 2026, unless the Commission determines that the cessation deadline should be extended to a date not more than 5 years in the future after offering the public an opportunity to provide input on the costs and benefits of this section and considering that input. The Commission will publish a document in the Federal Register announcing its determination and revising or removing this section accordingly.

58. In § 385.1111, add two sentences at the end of the paragraph to read as follows:

§ 385.1111 Conferences (Rule 1111).

* * * This section shall cease to have effect on December 5, 2026, unless the Commission determines that the cessation deadline should be extended to a date not more than 5 years in the future after offering the public an opportunity to provide input on the costs and benefits of this section and considering that input. The Commission will publish a document in the Federal Register announcing its determination and revising or removing this section accordingly.

59. In § 385.1112, add paragraph (c) to read as follows:

§ 385.1112 Requests for confidential treatment (Rule 1112).

* * * * *

(c) This section shall cease to have effect on December 5, 2026, unless the Commission determines that the cessation deadline should be extended to a date not more than 5 years in the future after offering the public an opportunity to provide input on the costs and benefits of this section and considering that input. The Commission will publish a document in the Federal Register announcing its determination and revising or removing this section accordingly.

60. In § 385.1113, add paragraph (g) to read as follows:

§ 385.1113 Interim relief (Rule 1113).

* * * * *

(g) This section shall cease to have effect on December 5, 2026, unless the Commission determines that the cessation deadline should be extended to a date not more than 5 years in the future after offering the public an opportunity to provide input on the costs and benefits of this section and considering that input. The Commission will publish a document in the Federal Register announcing its determination and revising or removing this section accordingly.

61. In § 385.1114, add two sentences at the end of the paragraph to read as follows:

§ 385.1114 Motions (Rule 1114).

* * * This section shall cease to have effect on December 5, 2026, unless the Commission determines that the cessation deadline should be extended to a date not more than 5 years in the future after offering the public an opportunity to provide input on the costs and benefits of this section and considering that input. The Commission will publish a document in the Federal Register announcing its determination and revising or removing this section accordingly.

62. In § 385.1115, add two sentences at the end of the paragraph to read as follows:

§ 385.1115 Procedural rulings (Rule 1115).

* * * This section shall cease to have effect on December 5, 2026, unless the Commission determines that the cessation deadline should be extended to a date not more than 5 years in the future after offering the public an opportunity to provide input on the costs and benefits of this section and considering that input. The Commission will publish a document in the Federal Register announcing its determination and revising or removing this section accordingly.

63. In § 385.1116, add two sentences at the end of the paragraph to read as follows:

§ 385.1116 Appeals (Rule 1116).

* * * This section shall cease to have effect on December 5, 2026, unless the Commission determines that the cessation deadline should be extended to a date not more than 5 years in the future after offering the public an opportunity to provide input on the costs and benefits of this section and considering that input. The Commission will publish a document in the Federal Register announcing its determination and revising or removing this section accordingly.

64. In § 385.1117, add paragraph (d) to read as follows:

§ 385.1117 Petition for adjustment treated as request for interpretation (Rule 1117).

* * * * *

(d) This section shall cease to have effect on December 5, 2026, unless the Commission determines that the cessation deadline should be extended to a date not more than 5 years in the future after offering the public an opportunity to provide input on the costs and benefits of this section and considering that input. The Commission will publish a document in the Federal Register announcing its determination and revising or removing this section accordingly.

[FR Doc. 2025-19607 Filed 10-20-25; 8:45 am]

BILLING CODE 6717-01-P